DEPARTMENT OF ENERGY

Office of Fossil Energy

National Coal Council

AGENCY: Department of Energy.

ACTION: Notice of open meeting.

SUMMARY: This notice announces a meeting of the National Coal Council (NCC). Federal Advisory Committee Act (Public Law 92-463, 86 Stats. 770) requires notice of these meetings be announced in the Federal Register.

DATES: Wednesday, November 10, 2004, at 9 a.m. to 12 Noon.

ADDRESSES: Wyndham Washington Hotel, 1400 M Street, NW., Washington, DC.

FOR FURTHER INFORMATION CONTACT: Robert Kane, Phone: (202) 586-4753, or Estelle W. Hebron, Phone: (202) 586-6837, U.S. Department of Energy, Office of Fossil Energy, Washington, DC 20585.

SUPPLEMENTARY INFORMATION: Purpose of the Committee: The purpose of the National Coal Council is to provide advice, information, and recommendations to the Secretary of Energy on matters relating to coal and coal industry issues. The purpose of this meeting is to recognize the important contributions that the NCC has made to the Department and other Federal agencies over the last 20 years.

Tentative Agenda:

• Call to order by Mr. Tom Kraemer, Chairman.

• Remarks of Secretary of Energy, Spencer Abraham.

• Council Business: Communication Committee Report, David Surber, Chairman Finance Committee Report, Rich Eimer, Chairman Study Group Report, Michael Mudd, Chairman

• Presentation of guest speaker from the Department of the Interior, to be announced.

• Presentation of guest speaker from EPA, to be announced.

• Presentation of guest speaker from CEQ, to be announced.

• Other Business.

• Adjourn.

Pubic Participation: The meeting is open to the public. The Chairman of the NCC will conduct the meeting to facilitate the orderly conduct of business. If you would like to file a written statement with the Committee, you may do so before or after the meeting. If you would like to make oral statements regarding any of the items on the agenda, you should contact Robert Kane or Estelle W. Hebron at the address or telephone numbers listed above. You must make your request for an oral statement at least five business days prior to the meeting, and reasonable provisions will be made to include the presentation on the agenda. Public comment will follow the 10 minute rule.

Transcripts: The transcript will be available for the public review and copying within 30 days at the Freedom of Information Public Reading Room, 1E-190, Forrestal Building, 1000 Independence Avenue, SW., Washington, DC, between 9 a.m. and 4 p.m., Monday through Friday, except Federal holidays.

Issued in Washington, DC on October 15, 2004.
Rachel M. Samuel,
Deputy Advisory Committee Management Officer.

[FR Doc. 04-23481 Filed 10-19-04; 8:45 am]

BILLING CODE 6450-01-P